DEPARTMENT OF TRANSPORTATION

Federal Railroad Administration

Notice of Availability for Public Review of the Draft Tier 1 Environmental Impact Statement for the Chicago, IL, to Omaha, NE, Regional Passenger Rail System Study

AGENCY: Federal Railroad Administration (FRA), U.S. Department of Transportation (DOT).

ACTION: Notice of availability of draft environmental impact statement.

SUMMARY: FRA is issuing this Notice to advise the public that a Draft Tier 1 Environmental Impact Statement (Tier 1 EIS) has been prepared for the Chicago to Omaha Regional Passenger Rail System Planning Study (Study). The Tier 1 EIS was prepared pursuant to the National Environmental Policy Act of 1969 (NEPA); FRA's Procedures for Considering Environmental Impacts (Environmental Procedures); and guidelines published by the Council on Environmental Quality (CEQ) on implementing NEPA. The Study includes both a Tier 1 EIS and a Service Development Plan. FRA is the lead federal agency and the Iowa Department of Transportation (Iowa DOT) is the joint-lead state agency for the environmental review process. For passenger rail projects, this Tier 1 EIS focuses on broad corridor and service level issues, while subsequent Tier 2 analyses will focus on the details of a specific project or action.

Iowa DOT proposes to establish high-speed passenger rail service between Chicago, Illinois, through Iowa, to Omaha, Nebraska. The proposed project would provide an alternative to automobile, bus, and air travel by decreasing travel times, increasing frequency of service, improving reliability (particularly in inclement weather), providing an efficient transportation option, and providing amenities to improve passenger ride quality and comfort. The project would also promote environmental benefits, including reduced air pollutant emissions, improved land use options, and fewer adverse impacts to the surrounding habitat and water resources.

The Tier 1 EIS presents the proposed project's purpose and need, identifies reasonable alternatives, describes the affected environment, and analyzes the potential environmental impacts of the alternatives considered, including the no-build alternative.

DATES: Written comments on the Draft Tier 1 EIS should be provided within the 45-day comment period to Iowa DOT on or before Wednesday, December 26, 2012. Public hearings are scheduled to occur in early December 2012 in Chicago, Illinois, and in Des Moines and Council Bluffs, Iowa. For further details, please reference the Study's Web site at: www.iowadot.gov/chicagotoomaha/.

ADDRESSES: Comments or additional information on the Tier 1 EIS can be submitted in multiple ways: Mailed directly to Amanda Martin, Freight and Passenger Rail Policy Coordinator, Iowa Department of Transportation, 800 Lincoln Way, Ames, Iowa 50010; submitted electronically through the Chicago to Omaha Regional Passenger Rail System Planning Study Web site at www.iowadot.gov/chicagotoomaha; submitted electronically to email@chicagotoomaha.com with “Draft EIS” in the Subject line; recorded at the Study's toll-free information line at 800-488-7119; or provided orally or in writing at the in-person open house public hearing.

FOR FURTHER INFORMATION CONTACT: Andréa Martin, Environmental Protection Specialist, Federal Railroad Administration, 1200 New Jersey Avenue Southeast, (Mail Stop 20), Washington, DC 20590, telephone (202) 493-6201; or Amanda Martin, Freight and Passenger Rail Policy Coordinator, Office of Rail Transportation, Iowa Department of Transportation, 800 Lincoln Way, Ames, Iowa 50010, telephone (515) 239-1653.

SUPPLEMENTARY INFORMATION: The Chicago to Omaha regional intercity passenger rail corridor extends from Chicago Union Station, in downtown Chicago, Illinois on the east to a terminal in Omaha, Nebraska on the west. In Illinois, the Study area extends west from Chicago Union Station (the hub for the Midwest Regional Rail Initiative) for approximately 200 miles to the Mississippi River near Moline, Illinois, and continues west for approximately 300 miles across the entire state of Iowa to the Missouri River, a distance of approximately 500 miles. The Study area terminates in Omaha, which is located at the Missouri River, the eastern border of the state of Nebraska.

The Chicago to Omaha Regional Passenger Rail System would provide a competitive passenger rail transportation option between Chicago and Omaha to help meet current and future demand for travel in the Study area. The need stems from travel demand and increasing congestion, resulting from population growth and changing demographics along the corridor from Chicago, Illinois to Omaha, Nebraska, as well as the lack of competitive and attractive travel alternatives to highway and air transportation. The proposed improvements of the preferred alternative meet the purpose and need criteria by: decreasing travel times; increasing frequency of service; improving service reliability; providing safe and efficient service; providing amenities to improve passenger ride quality and comfort; and promoting environmental benefits (reduced air pollutant emissions, improved land use options, and fewer adverse impacts to the surrounding habitat and water resources).

The Tier 1 EIS is available for review online at FRA's Web site www.fra.dot.gov and Iowa DOT's Web site at www.iowadot.gov/chicagotoomaha. The document is also available at 113 libraries located along the corridor in Illinois, Iowa, and Nebraska. For a full list of these viewing locations visit the Chicago to Omaha Regional Passenger Rail System Planning Study Web site at www.iowadot.gov/chicagotoomaha.

Issued in Washington, DC, on November 15, 2012.
Corey W. Hill,
Director, Office of Passenger and Freight Programs .

[FR Doc. 2012-28302 Filed 11-20-12; 8:45 am]

BILLING CODE 4910-06-P